DEPARTMENT OF TRANSPORTATION

Federal Aviation Administration

14 CFR Part 73

[Docket No. FAA-2016-0151; Airspace Docket No. 15-ASO-10]

RIN 2120-AA66

Change of Controlling Agency for Selected Restricted Areas; North Carolina

AGENCY: Federal Aviation Administration (FAA), DOT.

ACTION: Final rule.

SUMMARY: This action amends Title 14 Code of Federal Regulations (14 CFR) part 73 to update the controlling agency for restricted areas R-5302A, B and C, Albemarle Sound, NC; restricted areas R-5313A, B, C and D, Long Shoal Point, NC; and restricted areas R-5314A, B, C, D, E, F, H and J, Dare County, NC. Washington Air Route Traffic Control Center (ARTCC) has delegated controlling agency authority for the above restricted areas to the Marine Corps Air Station (MCAS) Cherry Point, Radar Air Traffic Control Facility (RATCF). There are no changes to the boundaries; designated altitudes; time of designation or activities conducted within the restricted areas.

DATES: Effective date: 0901 UTC, March 31, 2016.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.This rulemaking is promulgated under the authority described in Subtitle VII, Part A, Subpart I, Section 40103. Under that section, the FAA is charged with prescribing regulations to assign the use of the airspace necessary to ensure the safety of aircraft and the efficient use of airspace. This regulation is within the scope of that authority as it updates the controlling agency for restricted areas R-5302A, B and C; R-5313A, B, C and D; and R-5314A, B, C, D, E, F, H and J, in North Carolina to promote the efficient use of airspace.

The Rule

This action amends Title 14 Code of Federal Regulations (14 CFR) part 73 by changing the controlling agency for restricted areas R-5302A, B and C; R-5313A, B, C and D; and R-5314A, B, C, D, E, F, H and J, in North Carolina, from “FAA, Washington ARTCC” to “MCAS Cherry Point Approach Control.” The change will promote real-time activation and de-activation of the restricted areas and enhance air traffic efficiency in the surrounding area.This change does not affect the boundaries, times of designation, designated altitudes or activities conducted within the restricted areas; therefore, notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5d. This action is an administrative modification of the technical descriptions of the affected restricted areas to update the name of the controlling agency. It does not alter the dimensions, altitudes, or times of designation of the restricted areas; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.53 [Amended]

2. Section 73.53 is amended as follows:

* * * * *

R-5302A Albemarle Sound, NC [Amended]

By removing the current controlling agency and adding in its place:

Controlling agency. USMC, Marine Corps Air Station Cherry Point Approach Control.

R-5302B Albemarle Sound, NC [Amended]

By removing the current controlling agency and adding in its place:

Controlling agency. USMC, Marine Corps Air Station Cherry Point Approach Control.

R-5302C Albemarle Sound, NC [Amended]

By removing the current controlling agency and adding in its place:

Controlling agency. USMC, Marine Corps Air Station Cherry Point Approach Control.

* * * * *

R-5313A Long Shoal Point, NC [Amended]

By removing the current controlling agency and adding in its place:

Controlling agency. USMC, Marine Corps Air Station Cherry Point Approach Control.

R-5313B Long Shoal Point, NC [Amended]

By removing the current controlling agency and adding in its place:

Controlling agency. USMC, Marine Corps Air Station Cherry Point Approach Control.

R-5313C Long Shoal Point, NC [Amended]

By removing the current controlling agency and adding in its place:

Controlling agency. USMC, Marine Corps Air Station Cherry Point Approach Control.

R-5313D Long Shoal Point, NC [Amended]

By removing the current controlling agency and adding in its place:

Controlling agency. USMC, Marine Corps Air Station Cherry Point Approach Control.

* * * * *

R-5314A Dare County, NC [Amended]

By removing the current controlling agency and adding in its place:

Controlling agency. USMC, Marine Corps Air Station Cherry Point Approach Control.

R-5314B Dare County, NC [Amended]

By removing the current controlling agency and adding in its place:

Controlling agency. USMC, Marine Corps Air Station Cherry Point Approach Control.

R-5314C Dare County, NC [Amended]

By removing the current controlling agency and adding in its place:

Controlling agency. USMC, Marine Corps Air Station Cherry Point Approach Control.

R-5314D Dare County, NC [Amended]

By removing the current controlling agency and adding in its place:

Controlling agency. USMC, Marine Corps Air Station Cherry Point Approach Control.

R-5314E Dare County, NC [Amended]

By removing the current controlling agency and adding in its place:

Controlling agency. USMC, Marine Corps Air Station Cherry Point Approach Control.

R-5314F Dare County, NC [Amended]

By removing the current controlling agency and adding in its place:

Controlling agency. USMC, Marine Corps Air Station Cherry Point Approach Control.

R-5314H Dare County, NC [Amended]

By removing the current controlling agency and adding in its place:

Controlling agency. USMC, Marine Corps Air Station Cherry Point Approach Control.

R-5314J Dare County, NC [Amended]

By removing the current controlling agency and adding in its place:

Controlling agency. USMC, Marine Corps Air Station Cherry Point Approach Control.

* * * * *

Issued in Washington, DC, on February 17, 2016.
Leslie M. Swann,
Acting Manager, Airspace Policy Group.

[FR Doc. 2016-03845 Filed 2-23-16; 8:45 am]

BILLING CODE 4910-13-P